DEPARTMENT OF COMMERCE

Bureau of the Census

Census Scientific Advisory Committee Public Meeting

AGENCY: Bureau of the Census, Department of Commerce.

ACTION: Notice of public virtual meeting.

SUMMARY: The Bureau of the Census (Census Bureau) is giving notice of a virtual meeting of the Census Scientific Advisory Committee (CSAC). The Committee will address policy, research, and technical issues relating to a full range of Census Bureau programs and activities, including communications, decennial, demographic, economic, field operations, geographic, information technology, and statistics. The CSAC will meet in a virtual plenary session on Thursday, February 28, 2019. Last minute changes to the schedule are possible, which could prevent giving advance public notice of schedule adjustments. Please visit the Census Advisory Committees website for the most current meeting agenda at: http://www.census.gov/cac/. Topics of discussion will include the following items:

• 2020 Census Program Update

• 2018 End-to-End Test Update

• Cybersecurity Update

• Disclosure Avoidance for Block Level Data and Protection of Confidentiality

• Census Use of Disaster Data

• Administrative Records Update

• Measuring Technology Use by U.S. Businesses

• 2017 Economic Census Update

DATES: On Thursday, February 28, the meeting will begin at 2:00 p.m. and end at approximately 4:00 p.m.

ADDRESSES: The meeting will be held via WebEx at the following URL link: https://census.webex.com/census/j.php?MTID=me3a67c575a5f8e3062be53dd96e8e311. For audio please call the following phone number: 1-800-988-9407. When prompted, please use the following Participant Code: 2829145.

FOR FURTHER INFORMATION CONTACT: Tara Dunlop Jackson, Chief, Advisory Committees Branch, Office of Program, Performance and Stakeholder Integrations, census.scientific.advisory.committee@census.gov, Department of Commerce, U.S. Census Bureau, Room 8H177, 4600 Silver Hill Road, Washington, DC 20233, telephone 301-763-5222. For TTY callers, please use the Federal Relay Service 1-800-877-8339.

SUPPLEMENTARY INFORMATION: The members of the CSAC are appointed by the Director, U.S. Census Bureau. The Committee provides scientific and technical expertise, as appropriate, to address Census Bureau program needs and objectives. The Committee has been established in accordance with the Federal Advisory Committee Act (Title 5, United States Code, Appendix 2, Section 10).

All meetings are open to the public. A brief period will be set aside during the virtual meeting for public comment on February 28. However, individuals with extensive questions or statements must submit them in writing to: census.scientific.advisory.committee@census.gov (subject line “February 2019 CSAC Meeting Public Comment”), or by letter submission to Tara Dunlop Jackson, Committee Liaison Officer, Department of Commerce, U.S. Census Bureau, Room 8H177, 4600 Silver Hill Road, Washington, DC 20233.

This meeting is physically accessible to people with disabilities. Requests for auxiliary aids should be directed to the Committee Liaison Officer as soon as known, and preferably two weeks prior to the meeting.

Dated: February 5, 2019.
Steven D. Dillingham,
Director, Bureau of the Census.

[FR Doc. 2019-01988 Filed 2-11-19; 8:45 am]

BILLING CODE 3510-07-P